DEPARTMENT OF HEALTH AND HUMAN SERVICES

[Document Identifier: HHS-EGOV-16926-60D]

Agency Information Collection Activities; Proposed Collection; Public Comment Request

AGENCY: Electronic Government Office, HHS.

ACTION: Notice.

SUMMARY: In compliance with section 3506(c)(2)(A) of the Paperwork Reduction Act of 1995, the Electronic Government Office (EGOV), Department of Health and Human Services, announces plans to submit an Information Collection Request (ICR), described below, to the Office of Management and Budget (OMB). The ICR is to reinstate the use of the previously approved information collection assigned OMB control number 4040-0003, which expired on 11/30/2011. The 4040-0003 previously included the Project Abstract and Key Contacts Form. Those forms are no longer included in 4040-0003 and shall be moved to OMB control number 4040-0010. The ICR also requests categorizing the form as a common form, meaning HHS will only request approval for its own use of the form rather than aggregating the burden estimate across all Federal Agencies as was done for previous actions on this OMB control number. Prior to submitting that ICR to OMB, EGOV seeks comments from the public regarding the burden estimate, below, or any other aspect of the ICR.

DATES: Comments on the ICR must be received on or before May 6, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-EGOV-16926-60D for reference.

Information Collection Request Title: SF-424 Short Form.

OMB No.: 4040-0003.

Abstract: The SF-424 Short Form provides the Federal grant-making agencies a simplified alternative to the Standard Form 424 data set and form. Agencies may use the SF-424 Short Form for grant programs not required to collect all the data that is required on the SF-424 core data set and form.

Need and Proposed Use of the Information: The SF-424 Short Form is used by the public to apply for Federal financial assistance in the forms of grants. These forms are submitted to the Federal grant-making agencies for evaluation and review.

Likely Respondents: Organizations and institutions seeking grants.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours for the Department of Health and Human Services estimated for this ICR are summarized in the table below.

Total Estimated Annualized Burden for HHS—Hours
Form name | Number of respondents | Number of responses per respondent | Average burden per response (in hours) | Total burden hours
SF-424 Short Form | 1 | 1 | 1 | 1
Total | 1 | 1 | 1 | 1

EGOV specifically requests comments on (1) the necessity and utility of the proposed information collection for the proper performance of the agency's functions, (2) the accuracy of the estimated burden, (3) ways to enhance the quality, utility, and clarity of the information to be collected, and (4) the use of automated collection techniques or other forms of information technology to minimize the information collection burden.

Once OMB approves the use of this common form, federal agencies may request OMB approval to use this common form without having to publish notices and request public comments for 60 and 30 days. Each agency must account for the burden associated with their use of the common form.

Keith A. Tucker,
Information Collection Clearance Officer.

[FR Doc. 2013-05158 Filed 3-5-13; 8:45 am]

BILLING CODE 4151-AE-P